DEPARTMENT OF HOMELAND SECURITY

Federal Emergency Management Agency

[Docket ID FEMA-2014-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
New Jersey:
Morris, (FEMA Docket No.: B-1408) | Township of Hanover (14-02-0085P) | The Honorable Ronald F. Francioli, Mayor, Township of Hanover, P.O. Box 250, Whippany, NJ 07981 | Hanover Township Municipal Building, 1000 Route 10, Whippany, NJ 07981 | July 10, 2014 | 340343
New Mexico:
Bernalillo, (FEMA Docket No.: B-1416) | City of Albuquerque (13-06-2113P) | The Honorable Richard J. Berry, Mayor, City of Albuquerque, P.O. Box 1293, Albuquerque, NM 87103 | Development and Review Services Division, 600 2nd Street Northwest, Room 201, Albuquerque, NM 87102 | July 10, 2014 | 350002
Santa Fe, (FEMA Docket No.: B-1408) | City of Santa Fe (13-06-3570P) | The Honorable Javier M. Gonzales, Mayor, City of Santa Fe, 200 Lincoln Avenue, Santa Fe, NM 87501 | 200 Lincoln Avenue, Santa Fe, NM 87501 | July 7, 2014 | 350070
Oklahoma:
Kay, (FEMA Docket No.: B-1408) | City of Ponca City (13-06-3801P) | The Honorable Homer Nicholson, Mayor, City of Ponca City, 516 East Grand Avenue, Ponca City, OK 74601 | City Hall, 516 East Grand Avenue, Ponca City, OK 74601 | July 10, 2014 | 400080
Pottawatomie, (FEMA Docket No.: B-1408) | City of Shawnee (13-06-4706P) | Mr. Brian McDougal, Manager, City of Shawnee, 16 West 9th Street, Shawnee, OK 74801 | City Hall, 16 West 9th Street, Shawnee, OK 74801 | June 30, 2014 | 400178
Texas:
Bexar, (FEMA Docket No.: B-1408) | City of San Antonio (13-06-2351P) | The Honorable Julian Castro, Mayor, City of San Antonio, P.O. Box 839966, San Antonio, TX 78283 | Department of Public Works, Storm Water Engineering, 1901 South Alamo Street, 2nd Floor, San Antonio, TX 78204 | July 16, 2014 | 480045
Bexar, (FEMA Docket No.: B-1408) | City of San Antonio (14-06-0360P) | The Honorable Julian Castro, Mayor, City of San Antonio, P.O. Box 839966, San Antonio, TX 78283 | Department of Public Works, Storm Water Engineering, 1901 South Alamo Street, 2nd Floor, San Antonio, TX 78204 | July 14, 2014 | 480045
Brazos, (FEMA Docket No.: B-1408) | City of Bryan (13-06-2606P) | The Honorable Jason Bienski, Mayor, City of Bryan, 300 South Texas Avenue, Bryan, TX 77803 | City Hall, 300 South Texas Avenue, Bryan, TX 77803 | July 7, 2014 | 480082
Collin, (FEMA Docket No.: B-1408) | City of McKinney (13-06-3699P) | The Honorable Brian Loughmiller, Mayor, City of McKinney, P.O. Box 517, McKinney, TX 75070 | City Hall, 222 North Tennessee Street, McKinney, TX 75069 | June 30, 2014 | 480135
Denton, (FEMA Docket No.: B-1416) | City of Sanger (13-06-4010P) | The Honorable Thomas Muir, Mayor, City of Sanger, P.O. Box 1729, Sanger, TX 76266 | City Hall, 201 Bolivar Street, Sanger, TX 76266 | July 11, 2014 | 480786
Harris, (FEMA Docket No.: B-1408) | Unincorporated areas of Harris County (14-06-0260P) | The Honorable Ed M. Emmett, Harris County Judge, 1001 Preston Street, Suite 911, Houston, TX 77002 | Harris County, 10555 Northwest Freeway, Houston, TX 77092 | July 7, 2014 | 480287
Hays, (FEMA Docket No.: B-1408) | City of Kyle (13-06-3638P) | The Honorable Todd Webster, Mayor, City of Kyle, P.O. Box 40, Kyle, TX 78640 | Building Department, 100 West Center Street, Kyle, TX 78640 | July 10, 2014 | 481108
Rockwall, (FEMA Docket No.: B-1405) | City of McLendon-Chisholm (13-06-2902P) | The Honorable Gary L. Moody, Mayor, City of McLendon-Chisholm, 1248 South State Highway 205, McLendon-Chisholm, TX 75032 | City Hall, 1248 South State Highway 205, McLendon-Chisholm, TX 75032 | June 6, 2014 | 480546
Webb, (FEMA Docket No.: B-1416) | City of Laredo (14-06-0556P) | The Honorable Raul G. Salinas, Mayor, City of Laredo, 1110 Houston Street, Laredo, TX 78040 | 1120 San Bernardo Avenue, Laredo, TX 78040 | July 3, 2014 | 480651
Webb, (FEMA Docket No.: B-1416) | Unincorporated areas of Webb County (14-06-0556P) | The Honorable Danny Valdez, Webb County Judge, 1000 Houston Street, 3rd Floor, Laredo, TX 78040 | Webb County, 1110 Washington Street, Suite 302, Laredo, TX 78040 | July 3, 2014 | 481059
West Virginia:
Raleigh, (FEMA Docket No.: B-1408) | Unincorporated areas of Raleigh County (13-03-2399P) | The Honorable David L. Tolliver, President, Raleigh County Commission, 116 1/2 North Heber Street, Beckley, WV 25801 | Raleigh County Commission, 116 1/2 North Heber Street, Beckley, WV 25801 | July 14, 2014 | 540169

(Catalog of Federal Domestic Assistance No. 97.022, “Flood Insurance.”)

Dated: August 4, 2014.
Roy E. Wright,
Deputy Associate Administrator for Mitigation, Department of Homeland Security, Federal Emergency Management Agency.

[FR Doc. 2014-20146 Filed 8-22-14; 8:45 am]

BILLING CODE 9110-12-P